DEPARTMENT OF HOMELAND SECURITY

Coast Guard

33 CFR Part 165

[Docket No. USCG-2025-0636]

Safety Zones; Annual Events in the Captain of the Port Eastern Great Lakes Zone

AGENCY: Coast Guard, DHS.

ACTION: Notification of enforcement of regulation.

SUMMARY: The Coast Guard will enforce multiple safety zones located in federal regulations for recurring marine events taking place in August and September of 2025. This action is necessary and intended for the safety of life and property on navigable waters during these events. During the enforcement periods, no person or vessel may enter the respective safety zone without the permission of the Captain of the Port Eastern Great Lakes or a designated representative.

DATES: The regulations listed in 33 CFR 165.939 will be enforced for the regulated areas listed in Table 1 to § 165.939, as discussed in the SUPPLEMENTARY INFORMATION section.

FOR FURTHER INFORMATION CONTACT: If you have questions about this notice of enforcement, call or email Petty Officer Andrew Nevenner at Marine Safety Unit Cleveland's Waterways Management Division; telephone 216-937-0111, email D09-SMB-MSUCLEVELAND-WWM@uscg.mil.

SUPPLEMENTARY INFORMATION: The Coast Guard will enforce multiple safety zones for annual events in the Captain of the Port Eastern Great Lakes Zone listed in 33 CFR 165.939, Table 1 to § 165.939 for events occurring in the months of August and September as follows:

• Event No. (H)(8): Tri CLE Rock Roll Run—from 4:30 a.m. through 10:30 a.m. on August 10, 2025.

• Event No. (H)(2): D-Day Conneaut—from 1:30 p.m. through 5:30 p.m. on August 14-16, 2025.

• Event No. (H)(1): Whiskey Island Paddlefest—from 7:00 a.m. through 1:30 p.m. on August 16, 2025.

• Event No. (I)(2): Cleveland National Air Show—from 3:00 p.m. through 6:30 p.m. on August 28, 2025; from 7:00 a.m. through 5:30 p.m. on August 29, 2025; and from 7:30 a.m. through 6:30 p.m. on August 30 through September 1, 2025.

• Event No. (I)(3): Head of the Cuyahoga (29th Annual Head of the Cuyahoga Regatta)—from 4:30 a.m. through 5:30 p.m. on September 27, 2025.

Pursuant to 33 CFR 165.23, entry into, transiting, or anchoring within these safety zones during an enforcement period is prohibited unless authorized by the Captain of the Port (COTP) Eastern Great Lakes or his designated representative. Those seeking permission to enter the safety zone may request permission from the COTP Eastern Great Lakes via channel 16, VHF-FM. Vessels and persons granted permission to enter the safety zone shall obey the directions of COTP Eastern Great Lakes or his designated representative. While within a safety zone, all vessels shall operate at the minimum speed necessary to maintain a safe course.

In addition to this notice of enforcement in the Federal Register, the Coast Guard will provide the maritime community with advance notification of this enforcement period via Broadcast Notice to Mariners or Local Notice to Mariners. If the Captain of the Port Eastern Great Lakes determines that the safety zone need not be enforced for the full duration stated in this notice, he may use a Broadcast Notice to Mariners to grant general permission to enter the respective safety zone. This notification is being issued by the Coast Guard Sector Eastern Great Lakes Prevention Department Head at the direction of the Captain of the Port.

Dated: July 10, 2025.
A.J. Murphy,
Commander, U.S. Coast Guard, Sector Eastern Great Lakes Prevention Department Head.

[FR Doc. 2025-13760 Filed 7-21-25; 8:45 am]

BILLING CODE 9110-04-P